DEPARTMENT OF HEALTH AND HUMAN SERVICES

Centers for Disease Control and Prevention

[30Day-08-07AU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Methicillin-Resistant Staphylococcus aureus (MRSA) Infection Control Practices Survey—New—National Center for Preparedness, Detection, and Control of Infectious Diseases (NCPDCID), Centers for Disease Control and Prevention (CDC).

Background and Brief Description

In October, 2006, CDC recommended specific strategies to reduce transmission of multi-drug resistant organisms, including MRSA, in U.S. hospitals. Currently detailed data on ongoing MRSA prevention efforts at hospitals reporting to CDC surveillance systems is unknown. CDC has developed a survey to assess MRSA prevention programs in place at health care facilities reporting MRSA infection data to CDC through established surveillance systems. In this project, infection control practitioners in all hospitals that participate in the MRSA portion of the Active Bacterial Core Surveillance System will be surveyed electronically three times. There will be an initial baseline survey and then two follow-up surveys, each a year apart. The surveys will determine if changes in infection control practice correlate with changes in rates of MRSA infections. The proposed survey will provide data that can be used to assess progress toward achieving CDC's Health Protection Goals. The survey will also provide data on facility-based MRSA prevention policies and procedures that may affect MRSA infection rates. These results will inform CDC in the prevention and control of MRSA.

This proposed project supports CDC's Goal of “Healthy People in Healthy Places” and its Strategic Goal to “Increase the number of health care institutions that comply with evidence based guidelines for infection control.”

There is no cost to respondents other than their time to complete the survey. The total estimated annualized burden hours are 105 hours.

Respondents | Number of respondents | Number of responses per respondent | Average burden per response (in hours)
Infection Control Practitioners | 210 | 1 | 30/60

Dated: November 8, 2007.
Maryam I. Daneshvar,
Acting Reports Clearance Officer, Centers for Disease Control and Prevention.

[FR Doc. E7-22314 Filed 11-14-07; 8:45 am]

BILLING CODE 4163-18-P